DEPARTMENT OF JUSTICE

Drug Enforcement Administration

21 CFR Part 1308

[Docket No. DEA-1245]

Schedules of Controlled Substances: Placement of 2-Methyl AP-237 in Schedule I; Correction

AGENCY: Drug Enforcement Administration, Department of Justice.

ACTION: Correcting amendment.

SUMMARY: On March 15, 2024, the Drug Enforcement Administration published a final order placing 1-(2-methyl-4-(3-phenylprop-2-en-1-yl)piperazin-1-yl)butan-1-one (commonly known as 2-methyl AP-237), including its optical and geometric isomers, esters, ethers, salts, and salts of isomers, esters, and ethers whenever the existence of such isomers, esters, ethers, and salts is possible within the specific chemical designation, in schedule I of the Controlled Substances Act. The effective date of that final order was 30 days after publication in the Federal Register. Before the effective date, DEA published another final order that made the instructions for 2-methyl AP-237 in the March 15 final order invalid. This document corrects that error, adding 2-methyl AP-237 and its drug code 9664 for regulatory purposes.

DATES: This correcting amendment is effective June 3, 2025, and applicable beginning April 15, 2024.

FOR FURTHER INFORMATION CONTACT: Dr. Terrence L. Boos, Drug and Chemical Evaluation Section, Diversion Control Division, Drug Enforcement Administration; Telephone: (571) 362-3249.

SUPPLEMENTARY INFORMATION: The placement of 2-methyl AP-237 under schedule I was effective on April 15, 2024, thirty days after the publication of the final order.¹ During the 30-day period between the publication of the final order and effective date, DEA issued another final order scheduling three nitazene substances—etodesnitazene, N-pyrrolidino etonitazene, and protonitazene—into schedule I as of the date of the publication of the final order.² The publication of the three nitazene substances final order and the effective date of that final order predated the effective date of the 2-methyl AP-237 final order. Consequently, the amended paragraphs in 21 CFR part 1308 regarding 2-methyl AP-237 were incorrect. Nonetheless, the final order correctly placed 2-methyly AP-237 under 21 CFR 1308.11(b). Therefore, the placement of 2-methyl AP-237 under schedule I has been effective as of April 15, 2024, despite the technical errors in the paragraph of 21 CFR part 1308 in the final order.³

¹ Schedules of Controlled Substances: Placement of 2-Methyl AP-237 in Schedule I, 89 FR 18793 (Mar. 15, 2024).

² Schedules of Controlled Substances: Placement of Etodesnitazene, N-Pyrrolidino Etonitazene, and Protonitazene in Schedule I, 89 FR 25514 (Apr. 11, 2024).

³ Cf. Schedules of Controlled Substances: Placement of Brorphine in Schedule I; Correction, 88 FR 46073 (July 19, 2023).

List of Subjects in 21 CFR Part 1308

Administrative practice and procedure, Drug traffic control, Reporting and recordkeeping requirements.

For the reasons set out above, DEA corrects 21 CFR part 1308 with the following correcting amendment:

PART 1308—SCHEDULES OF CONTROLLED SUBSTANCES

1. The authority citation for part 1308 continues to read as follows:

Authority: 21 U.S.C. 811, 812, 871(b), 956(b), unless otherwise noted.

2. In § 1308.11:

a. Redesignate paragraphs (b)(62) through (109) as paragraphs (b)(63) through (110); and

b. Add a new paragraph (b)(62).

The addition reads as follows:

§ 1308.11 Schedule I.

* * * * *

(b) * * *

* * * * * * *
(62) 2-Methyl AP-237 (1-(2-methyl-4-(3-phenylprop-2-en-1-yl)piperazin-1-yl)butan-1-one) | 9664
* * * * * * *

* * * * *

Signing Authority

This document of the Drug Enforcement Administration was signed on May 27, 2025, by Acting Administrator Robert J. Murphy. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-09989 Filed 6-2-25; 8:45 am]

BILLING CODE 4410-09-P